OFFICE OF PERSONNEL MANAGEMENT

Excepted Service

AGENCY: Office of Personnel Management (OPM).

ACTION: Notice.

SUMMARY: This notice identifies Schedule A, B, and C appointing authorities applicable to a single agency that were established or revoked from April 1, 2018 to April 30, 2018.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during April 2018.

Schedule B

91. The Office of Personnel Management (Sch. B, 213.3291)

(b) Center for Leadership Development—No more than 72 positions of faculty members at grades GS-13 through GS-15. Initial appointments under this authority may be made for any period up to 3 years and may be extended in 1, 2, or 3 year increments.

Schedule C

The following Schedule C appointing authorities were approved during April 2018.

Agency name | Organization name | Position title | Authorization No. | Effective date
DEPARTMENT OF AGRICULTURE | Office of Farm Service Agency Office of Communications | State Executive Director—Rhode Island Press Assistant | DA180170 DA180165 | 04/20/2018 04/27/2018
| Office of the Assistant Secretary for Congressional Relations | Confidential Assistant Staff Assistant Associate Director | DA180149 DA180157 DA180159 | 04/13/2018 04/13/2018 04/20/2018
| Office of Rural Business Service | Senior Advisor State Director—Puerto Rico | DA180166 DA180168 | 04/27/2018 04/16/2018
DEPARTMENT OF COMMERCE | Office of the General Counsel | Senior Counsel (2) | DC180130 DC180131 | 04/20/2018 04/20/2018
COMMISSION ON CIVIL RIGHTS | Office of Commission on Civil Rights | Special Assistant | CC180001 | 04/20/2018
DEPARTMENT OF DEFENSE | Office of the Under Secretary of Defense (Personnel and Readiness) | Director of Communications for Personnel and Readiness Special Assistant | DD180080 DD180083 | 04/06/2018 04/20/2018
| Office of the Chief Management Officer | Special Assistant | DD180078 | 04/11/2018
DEPARTMENT OF THE ARMY | Office Assistant Secretary Army (Civil Works) | Special Assistant (Civil Works) | DW180021 | 04/06/2018
DEPARTMENT OF EDUCATION | Office of the Secretary | Confidential Assistant (Protocol) | DB180041 | 04/09/2018
| Office of the General Counsel | Attorney Advisor | DB180039 | 04/27/2018
| Office of Communications and Outreach | Confidential Assistant | DB180042 | 04/27/2018
DEPARTMENT OF ENERGY | Office of National Nuclear Security Administration | Senior Advisor | DE180066 | 04/06/2018
| Office of the Secretary | Executive Support Specialist Special Assistant | DE180070 DE180071 | 04/10/2018 04/27/2018
| Office of the Chief Financial Officer | Special Assistant | DE180067 | 04/20/2018
| Office of Management | Senior Congressional Correspondence Advisor | DE180068 | 04/20/2018
GENERAL SERVICES ADMINISTRATION | Office of Northwest/Arctic Region Office of General Counsel | Senior Advisor for Technology and to the Regional Administrator Counsel | GS180026 GS180025 | 04/06/2018 04/16/2018
DEPARTMENT OF HEALTH AND HUMAN SERVICES | Office of Administration for Children and Families Office of the Assistant Secretary for Public Affairs | Policy Advisor Senior Advisor and National Spokesperson | DH180053 DH180108 | 04/04/2018 04/04/2018
| Office of Administration for Community Living | Policy Advisor | DH180063 | 04/06/2018
| Office of Centers for Medicare and Medicaid Services | Director of Strategic Communications | DH180106 | 04/06/2018
| Office of Substance Abuse and Mental Health Services Administration | Director of Communications | DH180112 | 04/06/2018
| Office of Intergovernmental and External Affairs | Senior Advisor | DH180092 | 04/16/2018
| Office of the Secretary | Advisor Policy Advisor Special Assistant | DH180104 DH180123 DH180132 | 04/17/2018 04/20/2018 04/23/2018
|  | Deputy Director of Scheduling | DH180128 | 04/30/2018
| Office of Centers for Disease Control and Prevention | Deputy Chief of Staff | DH180114 | 04/27/2018
| Office of the Assistant Secretary for Financial Resources | Director of Strategic Projects and Policy Initiatives | DH180124 | 04/27/2018
DEPARTMENT OF HOMELAND SECURITY | Office of Federal Emergency Management Agency | Special Assistant Director, Center for Faith-Based and Neighborhood Partnerships | DM180147 DM180111 | 04/06/2018 04/10/2018
| Office of the Assistant Secretary for Public Affairs | Director of Digital Strategy | DM180150 | 04/06/2018
| Office of United States Customs and Border Protection | Staff Assistant | DM180153 | 04/11/2018
| Office of the Chief of Staff | Confidential Assistant | DM180159 | 04/11/2018
DEPARTMENT OF HOUSING AND URBAN DEVELOPMENT | Office of Housing | Advisor (2) | DU180061 DU180050 | 04/06/2018 04/16/2018
| Office of Congressional and Intergovernmental Relations | Congressional Relations Specialist | DU180062 | 04/06/2018
| Office of the Chief Information Officer | Senior Advisor | DU180065 | 04/24/2018
DEPARTMENT OF THE INTERIOR | Secretary's Immediate Office | Director of Scheduling and Advance Senior Advance Representative | DI180038 DI180048 | 04/06/2018 04/20/2018
| Office of the Solicitor | Attorney Advisor | DI180033 | 04/17/2018
| Office of Assistant Secretary—Fish and Wildlife and Parks | Senior Advisor | DI180050 | 04/17/2018
| Office of Assistant Secretary—Indian Affairs | Senior Advisor | DI180058 | 04/24/2018
DEPARTMENT OF LABOR | Office of Employment and Training Administration | Special Assistant | DL180062 | 04/06/2018
| Office of the Assistant Secretary for Policy | Senior Counsel and Policy Advisor | DL180064 | 04/16/2018
| Office of the Deputy Secretary | Counselor Confidential Assistant and Director of Scheduling | DL180070 DL180077 | 04/16/2018 04/20/2018
| Office of Mine Safety and Health Administration | Chief of Staff | DL180061 | 04/27/2018
| Office of the Secretary | Special Assistant | DL180079 | 04/27/2018
NATIONAL AERONAUTICS AND SPACE ADMINISTRATION | Office of Communications | Senior Advisor/Press Secretary Executive Assistant | NN180018 NN180019 | 04/27/2018 04/27/2018
NATIONAL ENDOWMENT FOR THE HUMANITIES | National Endowment for the Humanities | Executive Assistant | NH180002 | 04/16/2018
OFFICE OF MANAGEMENT AND BUDGET | Office of General Government Programs Office of Legislative Affairs | Confidential Assistant Deputy for Legislative Affairs (Appropriations) | BO180013 BO180014 | 04/13/2018 04/13/2018
OFFICE OF NATIONAL DRUG CONTROL POLICY | Office of the Director | Senior Policy Advisor and White House Liaison | QQ180005 | 04/24/2018
OFFICE OF PERSONNEL MANAGEMENT | Office of the General Counsel | Attorney-Advisor (General) Senior Counsel and Advisor | PM180022 PM180020 | 04/06/2018 04/20/2018
OFFICIAL RESIDENCE OF THE VICE PRESIDENT | Official Residence of the Vice President | Deputy Residence Manager | RV180001 | 04/06/2018
PRESIDENTS COMMISSION ON WHITE HOUSE FELLOWSHIPS | Presidents Commission on White House Fellowships | Assistant Director for Operations and Recruitment | WH180001 | 04/12/2018
SMALL BUSINESS ADMINISTRATION | Office of the Administrator Office of Congressional and Legislative Affairs | Senior Advisor Legislative Assistant (2) | SB180024 SB180025 SB180022 | 04/02/2018 04/02/2018 04/17/2018
| Office of Administration | Special Assistant White House Liaison | SB180026 SB180023 | 04/20/2018 04/30/2018
| Office of Capital Access | Special Advisor | SB180027 | 04/27/2018
DEPARTMENT OF STATE | Office of Bureau of Democracy, Human Rights and Labor | Special Assistant | DS180042 | 04/06/2018
| Office of Bureau for Education and Cultural Affairs | Special Advisor | DS180041 | 04/16/2018
DEPARTMENT OF TRANSPORTATION | Office of Assistant Secretary for Governmental Affairs | Senior Governmental Affairs Officer | DT180016 | 04/13/2018
| Office of the Secretary | Special Assistant Deputy Director of Scheduling and Advance | DT180033 DT180027 | 04/13/2018 04/24/2018
| Office of the Executive Secretariat | Special Assistant | DT180039 | 04/16/2018
| Office of Assistant Secretary for Governmental Affairs | Special Assistant | DT180042 | 04/27/2018
| Office of Assistant Secretary for Transportation Policy | Speechwriter | DT180046 | 04/27/2018
| Office of Public Affairs | Director of Public Affairs | DT180047 | 04/27/2018
DEPARTMENT OF THE TREASURY | Department of the Treasury | Personal Aide Senior Advisor | DY180057 DY180058 | 04/05/2018 04/16/2018

The following Schedule C appointing authorities were revoked during April 2018.

Agency name | Organization name | Position title | Request No. | Date vacated
COMMODITY FUTURES TRADING COMMISSION | Office of the Chairperson | Senior Advisor | CT170012 | 04/28/2018
DEPARTMENT OF COMMERCE | Office of Public Affairs | Senior Speechwriter and Press Assistant | DC170071 | 04/18/2018
| Office of Assistant Secretary Legislative and Intergovernmental Affairs | Associate Director for Intergovernmental Affairs | DC170073 | 04/28/2018
DEPARTMENT OF HEALTH AND HUMAN SERVICES | Office for Civil Rights | Chief of Staff | DH170211 | 04/05/2018
| Office of Administration for Children and Families | Policy Advisor Special Assistant | DH170138 DH170127 | 04/03/2018 04/06/2018
| Office of Centers for Medicare and Medicaid Services | Senior Advisor to the Administrator | DH170309 | 04/15/2018
| Office of Intergovernmental and External Affairs | Director of External Affairs | DH170136 | 04/05/2018
| Office of the Assistant Secretary for Public Affairs | Communications Advisor | DH170087 | 04/03/2018
| Office of the Secretary | Director of Boards and Commissions | DH170177 | 04/08/2018
|  | Special Assistant to the Secretary for Advance | DH180034 | 04/20/2018
DEPARTMENT OF HOMELAND SECURITY | Office of the Chief of Staff | Deputy White House Liaison | DM170183 | 04/13/2018
DEPARTMENT OF HOUSING AND URBAN DEVELOPMENT | Office of Government National Mortgage Association | Special Assistant | DU180036 | 04/14/2018
DEPARTMENT OF JUSTICE | Office of Legal Policy | Counsel | DJ170090 | 04/07/2018
| Office of the Attorney General | White House Liaison | DJ170172 | 04/30/2018
DEPARTMENT OF LABOR | Office of Public Affairs | Speech Writer | DL170063 | 04/17/2018
DEPARTMENT OF STATE | Office of the Secretary | Special Advisor | DS170165 | 04/13/2018
DEPARTMENT OF THE TREASURY | Office of the Chief of Staff | Personal Aide to the Secretary | DY170073 | 04/07/2018
DEPARTMENT OF TRANSPORTATION | Office of the Secretary | Special Assistant | DT170052 | 04/14/2018
|  | Special Assistant for Scheduling and Advance | DT170106 | 04/28/2018
GENERAL SERVICES ADMINISTRATION | Office of Federal Acquisition Service | Executive Director | GS170045 | 04/14/2018
| Office of Strategic Communications | Associate Administrator for Strategic Communications | GS170023 | 04/21/2018
| Office of the Administrator | Senior Advisor for Technology | GS170021 | 04/21/2018
OFFICE OF THE SECRETARY OF DEFENSE | Office of Washington Headquarters Services | Defense Fellow | DD170125 | 04/14/2018
PRESIDENTS COMMISSION ON WHITE HOUSE FELLOWSHIPS | Presidents Commission on White House Fellowships | Confidential Assistant | WH170007 | 04/14/2018
SECURITIES AND EXCHANGE COMMISSION | Office of the Chairman | Confidential Assistant | SE140003 | 04/05/2018
SMALL BUSINESS ADMINISTRATION | Office of the Administrator | Assistant Administrator for Intergovernmental Affairs | SB170012 | 04/12/2018
| Office of Congressional and Legislative Affairs | Legislative Assistant | SB170027 | 04/14/2018

Authority: 5 U.S.C. 3301 and 3302; E.O. 10577, 3 CFR, 1954-1958 Comp., p. 218.

Office of Personnel Management.
Alexys Stanley,
Regulatory Affairs.

[FR Doc. 2018-19495 Filed 9-7-18; 8:45 am]

BILLING CODE 6325-39-P